DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before January 28, 2013.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on December 17, 2012.
Donald Burger,
Chief, General Approvals and Permits.

Application No. | Docket No. | Applicant | Regulation(s) affected | Nature of special permits thereof
New Special Permits
15755-N |  | Micronesian Aviation Corporation dba Americopters, Saipan, MP | 49 CFR § 172.101 Column (9B), § 172.204(c)(3), § 173.27(b)(2), § 175.30(a)(1), §§ 172.200, 172.300, 172.400, 173.302(f)(3) and § 175.75 | To authorize the transportation in commerce of certain hazardous materials by Part 133 Rotorcraft External Load Operations, attached to or suspended from an aircraft, in remote areas of the U.S. without meeting certain hazard communication and stowage requirements. (mode 4)
15758-N |  | K&S Helicopters, Inc., Kailua Kona, HI (9B) | 49 CFR Column, § 172.101, § 172.204(c)(3), § 173.27(b)(2), § 175.30(a)(1), §§ 172.200, 172.300, 172.400, 173.302(f)(3) and § 175.75 | To authorize the transportation in commerce of certain hazardous materials by Part 133 Rotorcraft External Load Operations, attached to or suspended from an aircraft, in remote areas of the U.S. without meeting certain hazard communication and stowage requirements. (mode 4)
15764-N |  | Matheson Tri-Gas Basking, Ridge, NJ | 49 CFR 172.203; 172.301; 172.302; 180.205; 180.209; 180.213; 180.215 | To authorize the transportation in commerce of certain cylinders that have been ultrasonically retested for use in transporting Division 2.1, 2.2, and 2.3 materials. (modes 1, 2, 4)
15765-N |  | Delphi Automotive Systems, LLC, Warren, OH | 49 CFR 49 CFR 173.185(a), 49 CFR 107.105, IMDG COde 7.9.2 | To authorize the transportation in commerce of damaged/defective lithium ion batteries in accordance with CAA2012070015. (modes 1, 3)
15767-N |  | Union Pacific Railroad Company, Omaha, NE | 49 CFR 174.85 | To authorize the positioning of placarded cars without NE a buffer car. (mode 2)
15768-N |  | E.I. DuPont de Nemours & Company, Inc., Mt. Clemens, MI | 49 CFR 172.302(a); 172.302(c); 172.326(a); 172.331(b); 172.504(a) | To authorize the transportation in commerce of bulk packagings and unmarked IBCs and DOT-57 portable tanks containing residue of high flash point combustible liquid. (mode 1)
15769-N |  | KMG Chemicals, Houston, TX | 49 CFR 172.102, Table 2 IP2 | To authorize the transportation of solid pentachlorophenol on flatbed trailers. (mode 1)

[FR Doc. 2012-30937 Filed 12-27-12; 8:45 am]

BILLING CODE 4909-60-M